DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2008 Panel of the Survey of Income and Program Participation, Core Questions and Wave 1 Topical Modules.

Form Number(s): SIPP 28105(L) Director's Letter; SIPP/CAPI Automated Instrument; and SIPP 28003 Reminder Card.

OMB Control Number: None.

Type of Request: New collection.

Burden Hours: 95,535.

Number of Respondents: 94,500.

Average Hours Per Response: 30 minutes.

Needs and Uses: The U.S. Census Bureau requests authorization from the Office of Management and Budget (OMB) to conduct the 2008 Panel of the Survey of Income and Program Participation (SIPP). This clearance request is to accommodate the core instrument for the life of the 2008 Panel, the topical modules for the Wave 1 (February through May 2008) interviews, and the reinterview instrument, which will be used during the life of the 2008 Panel. The reinterview instrument will be used for quality control analysis of data collected by the SIPP field representatives (FRs).

The SIPP represents a source of information for a wide variety of topics and allows information for separate topics to be integrated to form a single and unified database so that the interaction between tax, transfer, and other government and private policies can be examined. Government domestic policy formulators depend heavily upon the SIPP information concerning the distribution of income received directly as money or indirectly as in-kind benefits and the effect of tax and transfer programs on this distribution. They also need improved and expanded data on the income and general economic and financial situation of the U.S. population. The SIPP has provided these kinds of data on a continuing basis since 1983, permitting levels of economic well-being and changes in these levels to be measured over time.

The survey is molded around a central “core” of labor force and income questions that remain fixed throughout the life of a panel. The core is supplemented with questions designed to answer specific needs, such as estimating eligibility for government programs, examining pension and health care coverage, and analyzing individual net worth. These supplemental questions are included with the core and are referred to as “topical modules.”

The topical modules for the 2008 Panel Wave 1 are Recipiency History and Employment History. These topical modules were previously conducted in the SIPP 2004 Panel Wave 1 instrument. The 2008 Panel Wave 1 interviews will be conducted beginning February 1, 2008 and concluding on May 31, 2008.

The SIPP is designed as a continuing series of national panels of interviewed households that are introduced every few years, with each panel having durations of 3 to 4 years. The 2008 Panel is scheduled for three years and will include nine waves, which will begin February 1, 2008. All household members 15 years old or over are interviewed using regular proxy-respondent rules. They are interviewed a total of nine times (nine waves), at 4-month intervals, making the SIPP a longitudinal survey. Sample people (all household members present at the time of the first interview) who move within the country and reasonably close to a SIPP primary sampling unit (PSU) will be followed and interviewed at their new address. Individuals 15 years old or over who enter the household after Wave 1 will be interviewed; however, if these people move, they are not followed unless they happen to move along with a Wave 1 sample individual.

Data provided by the SIPP are being used by economic policymakers, the Congress, state and local governments, and federal agencies that administer social welfare or transfer payment programs, such as the Department of Health and Human Services and the Department of Agriculture.

The knowledge gained from these “core” items will be of limited value without information about how the respondents reached their status at the time of the Wave 1 interview. The core, therefore, is also supplemented with questions designed to answer specific needs, such as estimating eligibility for government programs, examining pension and health care coverage, and analyzing financing of postsecondary education. These supplemental questions are included with the core and are referred to as “topical modules.” The questions in these topical modules will help us reduce, if not eliminate, the “left-censoring” analysis problem that occurs in nearly all longitudinal surveys and cited as a serious concern by our data users. Left-censoring refers to the experiences of individuals (or other units of longitudinal analysis) prior to the start of the longitudinal study period.

The questions for these topical modules address major policy and program concerns. Each component is intended to provide explanatory data describing likely relationships between earlier life-course experiences and current socioeconomic status. Personal history data, when linked with data derived from the panel interviews, yield a powerful set of explanatory indicators, which help analysts more fully understand associations between social, demographic, and economic events.

The following is a description of the topical modules for Wave 1 and their uses:

Recipiency History

The Recipiency History topical module will help determine if and for how long people not currently receiving benefits from selected programs received such aid. Data from these questions will measure the extent to which individuals and households have depended on government transfer programs and will help evaluate the effectiveness of the programs.

Employment History

The Employment History topical module will enable us to analyze individuals' past labor force patterns and relate them to their current employment status and their degree of reliance on government programs.

Affected Public: Individuals or households.

Frequency: Every 4 months.

Respondent's Obligation: Voluntary.

Legal Authority: Title 13 U.S.C. Section 182.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Brian Harris-Kojetin, OMB Desk Officer either by fax (202-395-7245) or e-mail (bharrisk@omb.eop.gov).

Dated: October 11, 2007.
Gwellnar Banks,
Management Analyst, Office of the Chief Information Officer.

[FR Doc. E7-20431 Filed 10-16-07; 8:45 am]

BILLING CODE 3510-07-P